FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 013324N.

Name: Competent Services, Inc. dba CSC Lines

Address: 271 Route 46 West, Ste. C-205, Fairfield, NJ 07004.

Date Revoked: October 9, 2007.

Reason: Surrendered license voluntarily.

License Number: 000132F.

Name: I.L. Cohen Co., Inc.

Address: 150-30 132nd Ave., Ste. 208, Jamaica, NY 11434.

Date Revoked: October 21, 2007.

Reason: Failed to maintain a valid bond.

License Number: 003963F.

Name: Natural Freight Ltd. dba Bronco Container Lines.

Address: Transportation Bldg., 225 Broadway, Ste. 2406, New York, NY 10007.

Date Revoked: October 20, 2007.

Reason: Failed to maintain a valid bond.

License Number: 016960N.

Name: Sesco Group, Inc.

Address: 4453 Durfee Ave., El Monte, CA 91732

Date Revoked: October 25, 2007.

Reason: Surrendered license voluntarily.

License Number: 017151N.

Name: Ultra Air Cargo, Inc.

Address: 555 S. Isis Ave., Inglewood, CA 90301.

Date Revoked: October 26, 2007.

Reason: Failed to maintain a valid bond.

Sandra L. Kusumoto,
Director, Bureau of Certification and Licensing.

[FR Doc. E7-21892 Filed 11-6-07; 8:45 am]

BILLING CODE 6730-01-P